ENVIRONMENTAL PROTECTION AGENCY

[FRL-10926-01-OA]

Public Meeting of the Science Advisory Board CASTNet Review Panel

AGENCY: Environmental Protection Agency (EPA).

ACTION: Notice.

SUMMARY: The Environmental Protection Agency (EPA) Science Advisory Board (SAB) Staff Office a public meeting of the Science Advisory Board CASTNet Review Panel. The purpose of the public meeting is to receive briefings from EPA on the CASTNet monitoring network, hear public comments, ask any clarifying questions, and deliberate publicly on charge questions regarding the Panel's review of the network and a report from EPA's Office of Air and Radiation. Additional information, materials, background, meeting agendas, and activities will be posted on SAB's website at: https://sab.epa.gov.

DATES:

Public Meetings: The Science Advisory Board CASTNet Review Panel will hold a three-day meeting on the following dates. All times listed are in eastern daylight time (EDT).

1. Wednesday, May 24, 2023, from 12:00 p.m. to 5:00 p.m.

2. Thursday, May 25, 2023, from 8:00 a.m. to 5:00 p.m.

3. Friday, May 26, 2023, from 8:00 a.m. to 12:00 p.m.

Public Comments: See the section titled “Procedures for Providing Public Input” under SUPPLEMENTARY INFORMATION

ADDRESSES: The public meeting will be held at AC Hotel by Marriott Bethesda Downtown at 4646 Montgomery Ave., Bethesda, MD 20814. Please refer to the SAB website at https://sab.epa.gov for details on how to access the meeting, including requesting teleconference or obtaining online simulcasting information.

FOR FURTHER INFORMATION CONTACT: Any member of the public who wants further information concerning this notice may contact Dr. Bryan Bloomer, Designated Federal Officer (DFO), via telephone (202) 564-4222, or email at bloomer.bryan@epa.gov. General information about the SAB, as well as any updates concerning the meetings announced in this notice can be found on the SAB website at https://sab.epa.gov.

SUPPLEMENTARY INFORMATION: Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board CASTNet Review Panel will hold a public meeting to receive a presentation of review materials, on the charge questions, to receive public comments, and to deliberate upon the charge questions regarding the CASTNet monitoring network.

Availability of Meeting Materials: All meeting materials, including the agenda, will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at an in-person meeting will be limited to five minutes. Each person making an oral statement should consider providing written comments as well as their oral statement so that the points presented orally can be expanded upon in writing. Persons interested in providing oral statements should contact the DFO, in writing (preferably via email) at the contact information noted above by May 19, 2023, to be placed on the list of registered speakers and to have the written comments posted publicly for consideration on the SAB website.

Written Statements: Written statements will be accepted throughout the advisory process; however, for timely consideration by SAB members, statements should be submitted to the DFO by May 19, 2023. Written statements should be supplied to the DFO at the contact information above. Submitters are requested to provide an unsigned version of each document because the SAB Staff Office does not publish documents with signatures on its websites. Members of the public should be aware that their personal contact information, if included in any written comments, may be posted to the SAB website. Copyrighted material will not be posted without explicit permission of the copyright holder and should be indicated as such at the time of submission.

Accessibility: For information on access or services for individuals with disabilities, please contact the DFO, at the contact information noted above, preferably at least ten days prior to the meeting, to give the EPA as much time as possible to process your request.

V. Khanna Johnston,
Deputy Director, Science Advisory Board Staff Office.

[FR Doc. 2023-09316 Filed 5-2-23; 8:45 am]

BILLING CODE 6560-50-P